DEPARTMENT OF TRANSPORTATION

Federal Aviation Administration

Notice of Passenger Facility Charge (PFC) Approvals and Disapprovals

AGENCY: Federal Aviation Administration (FAA), DOT.

ACTION: Monthly notice of PFC approvals and disapprovals. In May 2006, there were six applications approved. This notice also includes information on two applications, one approved in February 2006 and the other approved in April 2006, inadvertently left off the February 2006 and April 2006 notices, respectively. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: City of Philadelphia, Pennsylvania.

Application Number: 06-10-C-00-PHL.

Application Type: Impose and use a PFC.

PFC Level: $4.50.

Total PFC Revenue Approved in this Decision: $83,250,000.

Earliest Charge Effective Date: March 1, 2008.

Estimated Charge Expiration Date: June 1, 2009.

Class of Air Carriers Not Required to Collect PFC's: Air taxi/commercial operators filing FAA Form 1800-31.

Determination: Approved. Based on information contained in the public agency's application, the FAA has determined that the proposed class accounts for less than 1 percent of the total annual enplanements at Philadelphia International Airport.

Brief Description of Projects Approved for Collection and Use at a $4.50 PFC Level:

Terminals D and E expansion and modernization.

Terminal A east improvements.

Purchase of passenger loading bridges.

Brief Description of Projects Approved for Collection and Use at a $3.00 PFC Level:

Terminal D-E apron and adjacent taxiway J reconstruction.

Airport master plan.

Environmental impact statements.

Land acquisition—8425 Executive Avenue.

Decision Date: February 16, 2006.

For Further Information Contact: Lori Ledebohm, Harrisburg, Airports District Office, (717) 730-2835.

Public Agency: Erie Municipal Airport Authority, Erie, Pennsylvania.

Application Number: 06-06-C-00-ERI.

Application Type: Impose and use a PFC.

PFC Level: $4.50.

Total PFC Revenue Approved in this Decision: $3,140,337.

Earliest Charge Effective Date: November 1, 2006.

Estimated Charge Expiration Date: September 1, 2012.

Class of Air Carriers Not Required to Collect PFC's: Air taxi/commercial operators filing FAA Form 1800-31.

Determination: Approved. Based on information contained in the public agency's application, the FAA has determined that the proposed class accounts for less than 1 percent of the total annual enplanements at Erie International Airport—Tom Ridge Field.

Brief Description of Projects Approved for Collection and Use:

Terminal apron rehabilitation.

Security checkpoint modifications.

Heating, ventilation, and air conditioning system replacement.

Oil/water separator for maintenance building.

Snow plows (two).

PFC application preparation costs

PFC program administration.

Brief Description of Project Approved for Collection: Runway 6/24 extension and runway safety areas improvements.

Decision Date: April 13, 2006.

For Further Information Contact: Lori Ledebohm, Harrisburg Airports District Office, (717) 730-2835.

Public Agency: Lafayette Airport Commission, Lafayette, Louisiana.

Application Number: 06-05-C-00-LFT.

Application Type: Impose and use a PFC.

PFC Level: $4.50.

Total PFC Revenue Approved in this Decision: $795,000.

Earliest Charge Effective Date: February 1, 2007.

Estimated Charge Expiration Date: May 1, 2008.

Class of Air Carriers Not Required to Collect PFC's: All air taxi/commercial operators.

Determination: Approved. Based on information contained in the public agency's application, the FAA has determined that the proposed class accounts for less than 1 percent of the total annual enplanements at Lafayette Regional Airport.

Brief Description of Projects Approved for Collection and Use:

Acquire aircraft rescue and firefighting vehicle.

PFC development, implementation, and administration.

Decision Date: May 2, 2006.

For Further Information Contact: Andy Velayos, Louisiana/New Mexico Airports Development Office, (817) 222-5647.

Public Agency: Missoula County Airport Authority, Missoula, Montana.

Application Number: 06-06-C-00-MSO.

Application Type: Impose and use a PFC

PFC Level: $4.50.

Total PFC Revenue Approved in this Decision: $3,334,760.

Earliest Charge Effective Date: June 1, 2007.

Estimated Charge Expiration Date: August 1, 2010.

Class of Air Carriers Not Required to Collect PFC's: Nonscheduled/on demand air carriers filing FAA Form 1800-31.

Determination: Approved. Based on information contained in the public agency's application, the FAA has determined that the proposed class accounts for less than 1 percent of the total annual enplanements at Missoula International Airport.

Brief Description of Projects Approved for Collection and Use:

Acquire aircraft rescue and firefighting equipment.

Acquire snow removal equipment—combination plow.

Acquire snow removal equipment—alternate sweeper (vacuum truck).

Acquire passenger loading bridges.

Install security gates.

Security enhancements.

Rehabilitate runway 7/25.

Rehabilitate central portion of taxiway A.

Decision Date: May 5, 2006.

For Further Information Contact: Dave Stelling, Helena Airports District Office, (406) 449-5271.

Public Agency: County of Routt, Hayden, Colorado.

Application Number: 06-07-C-00-HDN.

Application Type: Impose and use a PFC.

PFC Level: $4.50.

Total PCF Revenue Approved in this Decision: $2,199,678.

Earliest Charge Effective Date: July 1, 2008.

Estimated Charge Expiration Date: August 1, 2012.

Class of Air Carriers Not Required to Collect PFC's: None.

Brief Description of Projects Approved for Collection and Use:

Commercial terminal expansion—phase II.

Air carrier parking apron.

Rehabilitate air carrier apron.

Construction of new terminal roadway.

Snow removal equipment.

PFC application and administration.

Decision Date: May 12, 2006.

For Further Information Contact: Chris Schaffer, Denver Airports District Office, (303) 342-1258.

Public Agency: Horry County Department of Airports, Myrtle Beach, South Carolina.

Application Number: 06-03-C-00-MYR.

Application Type: Impose and use a PFC.

PFC Level: $4.50.

Total PFC Revenue Approved in this Decision: $111,182,626.

Earliest Charge Effective Date: October 1, 2007.

Estimated Charge Expiration Date: November 1, 2029.

Class of Air Carriers Not Required to Collect PFC's: Air taxi/commercial operators filing FAA Form 1800-31.

Determination: Approved. Based on information contained in the public agency's application, the FAA has determined that the proposed class accounts for less than 1 percent of the total annual enplanements at Myrtle Beach International Airport.

Brief Description of Projects Approved for Collection and Use:

New terminal program—airfield.

New terminal program—roadway.

New terminal program—terminal building.

Decision Date: May 15, 2006.

For Further Information Contact: Paul Lo, Atlanta Airports District Office, (404) 305-7145.

Public Agency: City of El Paso, Texas.

Application Number: 06-03-C-00-ELP.

Application Type: Impose and use a PFC.

PFC Level: $3.00

Total PFC Revenue Approved in this Decision: $15,748,267.

Earliest Charge Effective Date: July 1, 2006.

Estimated Charge Expiration Date: September 1, 2009.

Class of Air Carriers Not Required to Collect PFC's: Air taxi/commercial operators filing FAA Form 1800-31.

Determination: Approved. Based on information contained in the public agency's application, the FAA has determined that the proposed class accounts for less than 1 percent of the total annual enplanements at El Paso International Airport.

Brief Description of Projects Approved for Collection and Use:

Reconstruct runway 8R/26L.

Modify terminal building security checkpoint.

Administrative costs.

Decision Date: May 16, 2006.

For Further Information Contact: Guillermo Villalobos, Texas Airports Development Office, (817) 222-5657.

Public Agency: Bert Mooney Airport Authority, Butte, Montana.

Application Number: 06-07-C-00-BTM.

Application Type: Impose and use a PFC.

PFC Level: $3.00.

Total PFC Revenue Approved in this Decision: $110,773.

Earliest Charge Effective Date: July 1, 2006.

Estimated Charge Expiration Date: August 1, 2007.

Class of Air Carriers Not Required to Collect PFC's: On demand, non scheduled air taxi/commercial operators.

Determination: Approved. Based on information contained in the public agency's application, the FAA has determined that the proposed class accounts for less than 1 percent of the total annual enplanements at Bert Mooney Airport.

Brief Description of Projects Approved for Collection and Use:

Taxiway D reconstruction and edge lighting system replacement.

Airfield sign replacement.

Supplemental wind cone installation.

Acquire and install weather equipment.

Acquire access control equipment, phase 1.

Master plan study, phase II (special approach feasibility study).

Master plan study, phase III (approach study).

West side security/wildlife fence.

South side pavement construction.

Pavement condition index study.

Decision Date: May 25, 2006.

For Further Information Contact: Dave Stelling, Helena Airports District Office, (406) 449-5271.

Amendment to PFC Approvals
Amendment No., city, state | Amendment approved date | Original approved net PFC revenue | Amended approved net PFC revenue | Original estimated charge exp. date | Amended estimated charge exp. date
01-06-C-03-CVG, Covington, KY | 5/04/06 | $19,353,000 | $19,580,000 | 10/01/02 | 11/01/02
02-08-C-02-CVG, Covington, KY | 5/04/06 | 267,326,000 | 268,062,000 | 10/01/08 | 12/01/11
05-08-C-01-COS, Colorado Springs, CO | 5/05/06 | 10,850,868 | 7,422,980 | 11/01/07 | 9/01/05
05-09-C-01-CVG, Covington, KY | 5/05/06 | 47,226,938 | 45,501,000 | 10/01/10 | 9/01/12
01-03-C-01-SLC, Salt Lake City, UT | 5/05/06 | 27,852,072 | 28,828,703 | 5/01/02 | 6/01/02
99-05-C-06-CVG, Covington, KY | 5/10/06 | 18,598,000 | 18,304,000 | 2/01/02 | 2/01/02
03-03-C-01-ERI, Erie, PA | 5/12/06 | 1,001,183 | 669,555 | 1/01/05 | 1/01/05
00-06-C-04-MKE, Milwaukee, WI | 5/16/06 | 123,240,672 | 130,460,739 | 11/01/14 | 2/01/14
02-07-C-03-MKE, Milwaukee, WI | 5/16/06 | 35,205,833 | 38,807,888 | 11/01/17 | 3/01/17
04-10-C-01-MKE, Milwaukee, WI | 5/04/06 | 8,665,601 | 11,775,601 | 5/01/18 | 4/01/18
05-12-C-01-MKE, Milwaukee, WI | 5/16/06 | 202,989 | 260,614 | 6/01/18 | 5/01/18

Issued in Washington, DC, on June 20, 2006.
Joe Hebert,
Manager, Financial Analysis and Passenger Facility Charge Branch.

[FR Doc. 06-5755 Filed 6-27-06; 8:45 am]

BILLING CODE 4910-13-M